DEPARTMENT OF JUSTICE

Notice of Lodging of Proposed Consent Decree Under the Clean Water Act

On August 26, 2020, the Department of Justice lodged a proposed consent decree with the United States District Court for the Southern District of Mississippi in the lawsuit entitled United States and State of Mississippi v. City of Hattiesburg, Mississippi, Civil Action No. 2:20-cv-00158-KS-MTP.

The United States and the State of Mississippi filed this lawsuit under the Clean Water Act and the Mississippi Air and Water Pollution Control Law. The complaint seeks injunctive relief and civil penalties for violations in connection with the City's sanitary sewer system. The consent decree requires the defendant to perform injunctive relief including early action projects; management, operations, and maintenance programs; and rehabilitation of priority areas of the sewer. It also requires the City to pay a $165,600 civil penalty, which will be divided evenly between the United States and the State. In addition, the City has agreed to perform a supplemental environmental project valued at $220,800.

The publication of this notice opens a period for public comment on the consent decree. Comments should be addressed to the Assistant Attorney General, Environment and Natural Resources Division, and should refer to United States and State of Mississippi v. City of Hattiesburg, Mississippi, D.J. Ref. No. 90-5-1-1-10964. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $64.75 (25 cents per page reproduction cost) payable to the United States Treasury. For a paper copy without the exhibits, the cost is $14.75.

Lori Jonas,
Assistant Section Chief, Environmental Enforcement Section, Environment and Natural Resources Division.

[FR Doc. 2020-19230 Filed 8-31-20; 8:45 am]

BILLING CODE 4410-15-P